NATIONAL AERONAUTICS AND SPACE ADMINISTRATION

[Notice (00-138)]

NASA Advisory Council (NAC), Earth Systems Science and Applications Advisory Committee; Meeting

AGENCY: National Aeronautics and Space Administration.

ACTION: Notice of meeting.

SUMMARY: In accordance with the Federal Advisory Committee Act, Public Law 92-463, as amended, the National Aeronautics and Space Administration announces a meeting of the NASA Advisory Council, Earth Systems Science and Applications Advisory Committee.

DATES: Tuesday, December 5, 2000, 8:30 am to 5:30 pm; and Wednesday, December 6, 2000, 8:30 am to 5:30 pm.

ADDRESSES: NASA Headquarters, 300 E Street SW., Room 9H40, Program Review Center, Washington, DC, 20546.

FOR FURTHER INFORMATION CONTACT: Dr. Robert Schiffer, Code YS, National Aeronautics and Space Administration, Washington, DC 20546, 202/358-1876.

SUPPLEMENTARY INFORMATION: The meeting will be open to the public up to the seating capacity of the room. The agenda for the meeting is as follows:

• Assessment of the State-of-the-Enterprise

• Status Reports re: ESSAAC Subcommittees and ad hoc Panels

• Technology

• Data & Information Systems

• GPRA Performance Metrics

• ESE Budget Status

• Status of the ESE Science Implementation Plan

• Summary of First Day

• Applications Strategic and Implementation Planning

• Technology Strategy and Roadmap

• Strategic Planning Status Overview—ESE Vision

• Discussion Period

• Debriefing/Closing Remarks

• ESSAAC Deliberation Session

• Summary of Actions, Future Schedule

It is imperative that the meeting be held on these dates to accommodate the scheduling priorities of the key participants. Visitors will be requested to sign a visitor's register.

Dated: November 13, 2000.
Beth M. McCormick,
Advisory Committee Management Officer, National Aeronautics and Space Administration.

[FR Doc. 00-29438 Filed 11-15-00; 8:45 am]

BILLING CODE 7510-01-U